DEPARTMENT OF COMMERCE

National Oceanic and Atmospheric Administration

RIN 0648-XG805

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet March 6-12, 2019. The Pacific Council meeting will begin on Thursday, March 7, 2019 at 9 a.m. Pacific Standard Time (PST), reconvening at 8 a.m. each day through Tuesday, March 12, 2019. All meetings are open to the public, except a closed session will be held from 8 a.m. to 9 a.m., Thursday, March 7 to address litigation and personnel matters. The Pacific Council will meet as late as necessary each day to complete its scheduled business.

ADDRESSES:

Meeting address: The meetings of the Pacific Council and its advisory entities will be held at the Hilton Vancouver Washington Hotel, 301 W. 6th Street, Vancouver, WA; telephone: (360) 993-4500.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The March 6-12, 2019 meeting of the Pacific Council will be streamed live on the internet. The broadcasts begin initially at 9 a.m. PST Thursday, March 7, 2019 and continue at 8 a.m. daily through Tuesday, March 12, 2019. Broadcasts end daily at 5 p.m. PST or when business for the day is complete. Only the audio portion and presentations displayed on the screen at the Pacific Council meeting will be broadcast. The audio portion is listen-only; you will be unable to speak to the Pacific Council via the broadcast. To access the meeting online, please use the following link: http://www.gotomeeting.com/online/webinar/join-webinar and enter the March Webinar ID, 634-645-459, and your email address. You can attend the webinar online using a computer, tablet, or smart phone, using the GoToMeeting application. It is recommended that you use a computer headset to listen to the meeting, but you may use your telephone for the audio-only portion of the meeting. The audio portion may be attended using a telephone by dialing the toll number 1-562-247-8422 (not a toll-free number), audio access code 532-691-006, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance March 2019 briefing materials and posted on the Pacific Council website at www.pcouncil.org no later than Friday, February 15, 2019.

A. Call to Order

1. Opening Remarks

2. Roll Call

3. Executive Director's Report

4. Approve Agenda

B. Open Comment Period

1. Comments on Non-Agenda Items

C. Administrative Matters

1. Marine Planning Update

2. Legislative Matters—cancelled

3. Membership Appointments and Council Operating Procedures

4. Approval of Council Meeting Record

5. Future Council Meeting Agenda and Workload Planning

D. Salmon Management

1. National Marine Fisheries Service Report

2. Review of Rebuilding Plans

3. Review of 2018 Fisheries and Summary of 2019 Stock Forecasts

4. Identify Management Objectives and Preliminary Definition of 2019 Management Alternatives

5. Recommendations for 2019 Management Alternative Analysis

6. Further Direction for 2019 Management Alternatives

7. Further Direction for 2019 Management Alternatives

8. Adopt 2019 Management Alternatives for Public Review

9. Appoint Salmon Hearing Officers

E. Ecosystem Management

1. California Current Ecosystem and Integrated Ecosystem Assessment Report and Science Review Topics

2. Climate and Communities Initiative Update

3. Fishery Ecosystem Plan Five-Year Review

F. Habitat

1. Current Habitat Issues

G. Groundfish Management

1. National Marine Fisheries Service Report

2 Amendment 28—Essential Fish Habitat and Rockfish Conservation Area—Final Implementation

3. New Methodology Informing Sigma Values—Final Adoption

4. Omnibus Workload Planning Process Review and Project Prioritization

5. Inseason Adjustments—Final Action

6. Implementation of the 2019 Pacific Whiting Fishery Under the U.S./Canada Agreement

H. Pacific Halibut Management

1. Annual International Pacific Halibut Commission (IPHC) Meeting Report

2. Incidental Catch Recommendations: Options for the Salmon Troll and Final Recommendations for Fixed Gear Sablefish Fisheries

I. Enforcement—cancelled

J. Highly Migratory Species Management

1. National Marine Fisheries Service Report

2. Recommend International Management Activities

3. Drift Gillnet Performance Metrics Review

K. Coastal Pelagic Species Management

1. Comments on Court Ordered Rulemaking on Harvest Specifications for the Central Subpopulation of Northern Anchovy

Advisory Body Agendas

Advisory body agendas will include discussions of relevant issues that are on the Pacific Council agenda for this meeting, and may also include issues that may be relevant to future Council meetings. Proposed advisory body agendas for this meeting will be available on the Pacific Council website http://www.pcouncil.org/council-operations/council-meetings/current-briefing-book/ no later than Friday, February 15, 2019.

Schedule of Ancillary Meetings

Day 1—Wednesday, March 6, 2019

Ecosystem Advisory Subpanel—8 a.m.

Ecosystem Workgroup—8 a.m.

Habitat Committee—8 a.m.

Scientific and Statistical Committee—8 a.m.

Tribal Policy Group—7 p.m.

Tribal and Washington Technical Group—Ad Hoc

Day 2—Thursday, March 7, 2019

California State Delegation—7 a.m.

Oregon State Delegation—7 a.m.

Washington State Delegation—7 a.m.

Ecosystem Advisory Subpanel—8 a.m.

Ecosystem Workgroup—8 a.m.

Groundfish Advisory Subpanel—8 a.m.

Groundfish Management Team—8 a.m.

Salmon Advisory Subpanel—8 a.m.

Salmon Technical Team—8 a.m.

Scientific and Statistical Committee—8 a.m.

Enforcement Consultants—3 p.m.

Tribal Policy Group—Ad Hoc

Tribal and Washington Technical Group—Ad Hoc

Day 3—Friday, March 8, 2019

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Tribal Policy Group—Ad Hoc

Tribal and Washington Technical Group—Ad Hoc

Enforcement Consultants—Ad Hoc

Day 4—Saturday, March 9, 2019

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Tribal Policy Group—Ad Hoc

Tribal and Washington Technical Group—Ad Hoc

Enforcement Consultants—Ad Hoc

Day 5—Sunday, March 10, 2019

California State Delegation—7 a.m.

Oregon State Delegation—7 a.m.

Washington State Delegation—7 a.m.

Highly Migratory Species Advisory Subpanel—8 a.m.

Highly Migratory Species Management Team—8 a.m.

Salmon Advisory Subpanel—8 a.m.

Salmon Technical Team—8 a.m.

Tribal Policy Group—Ad Hoc

Tribal and Washington Technical Group—Ad Hoc

Enforcement Consultants—Ad Hoc

Day 6—Monday, March 11, 2019

California State Delegation—7 a.m.

Oregon State Delegation—7 a.m.

Washington State Delegation—7 a.m.

Highly Migratory Species Advisory Subpanel—8 a.m.

Highly Migratory Species Management Team—8 a.m.

Salmon Advisory Subpanel—8 a.m.

Salmon Technical Team—8 a.m.

Tribal Policy Group—Ad Hoc

Tribal and Washington Technical Group—Ad Hoc

Enforcement Consultants—Ad Hoc

Day 7—Tuesday, March 12, 2019

California State Delegation—7 a.m.

Oregon State Delegation—7 a.m.

Washington State Delegation—7 a.m.

Although non-emergency issues not contained in this agenda may come before the Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2280, ext. 411 at least ten business days prior to the meeting date.

Dated: February 8, 2019.
Tracey L. Thompson,
Acting Deputy Director, Office of Sustainable Fisheries, National Marine Fisheries Service.

[FR Doc. 2019-02167 Filed 2-12-19; 8:45 am]

BILLING CODE 3510-22-P